DEPARTMENT OF ENERGY

Federal Energy Regulatory Commission

Combined Notice of Filings

Take notice that the Commission has received the following Natural Gas Pipeline Rate and Refund Report filings:

Filings Instituting Proceedings

Docket Numbers: PR22-5-000.

Applicants: Eagle Ford Midstream, LP.

Description: Submits tariff filing per 284.123(b)(2)+(g): Petition for NGPA Section 311 Rate Approval to be effective 11/12/2021.

Filed Date: 11/12/2021.

Accession Number: 20211112-5214.

Comments Due: 5 p.m. ET 12/3/21.

284.123(g) Protests Due: 5 p.m. ET 1/11/22.

Docket Numbers: RP22-324-000.

Applicants: Trailblazer Pipeline Company LLC.

Description: § 4(d) Rate Filing: TPC 2021-11-16 Negotiated Rate Agreement to be effective 11/17/2021.

Filed Date: 11/16/21.

Accession Number: 20211116-5096.

Comment Date: 5 p.m. ET 11/29/21.

Docket Numbers: RP22-325-000.

Applicants: Williams Energy Resources LLC, Sequent Energy Management, L.P.

Description: Joint Petition for Temporary Waivers of Capacity Release Regulations, et al. of Sequent Energy Management, LP, et al.

Filed Date: 11/16/21.

Accession Number: 20211116-5196.

Comment Date: 5 p.m. ET 11/29/21.

Docket Numbers: RP22-326-000.

Applicants: Southern Natural Gas Company, L.L.C.

Description: § 4(d) Rate Filing: Fuel Tracker Filing November 2021 to be effective 1/1/2022.

Filed Date: 11/17/21.

Accession Number: 20211117-5043.

Comment Date: 5 p.m. ET 11/29/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 17, 2021.
Debbie-Anne A. Reese,
Deputy Secretary.

[FR Doc. 2021-25543 Filed 11-22-21; 8:45 am]

BILLING CODE 6717-01-P